DEPARTMENT OF HOMELAND SECURITY

Coast Guard

[USCG-2012-0632]

RIN 1625-AA11

Regulated Navigation Area: Buzzard's Bay, MA; Navigable Waterways Within the First Coast Guard District

AGENCY: Coast Guard, DHS.

ACTION: Notice of Availability.

SUMMARY: The Coast Guard is issuing this notice to advise the public that we have prepared a Finding of No Significant Impact (FONSI) based on the Final Environmental Assessment (Final EA) for the amendments to the Buzzards Bay Regulated Navigation Area that were implemented in 2007. The Coast Guard prepared the Final EA, dated December 2013, in accordance with the National Environmental Policy Act (NEPA) and the Coast Guard's Agency procedures for implementing NEPA.

DATES: The FONSI and Final EA are available as of the publication date of this notice.

FOR FURTHER INFORMATION CONTACT: Mr. John Mauro, Coast Guard First District Waterways Management Branch, telephone 617-223-8355, email John.J.Mauro@uscg.mil or Mr. Luke Dlhopolsky, Civil Engineering Unit, Environmental Protection Specialist, telephone 401-736-1743, email Lucas.A.Dlhopolsky@uscg.mil.

SUPPLEMENTARY INFORMATION: The Final EA evaluates the existing Regulated Navigation Area (RNA) applicable to First Coast Guard District waters as it was amended in 2007 (the “2007 Final Rule”) (72 FR 50052; corrected by 72 FR 70780). The purpose of those amendments was to enhance the pre-2007 RNA by adding measures intended to further reduce the probability of an incident that could result in the discharge or release of oil or hazardous material, or cause serious harm, to navigable waters of the United States. As part of the process to implement the 2007 Final Rule, the USCG prepared a Categorical Exclusion Determination as defined in its Agency Procedures for Implementing the National Environmental Policy Act. In a ruling on May 17, 2011, the 1st U.S. Circuit Court of Appeals determined that the USCG “failed to comply with its obligations under the National Environmental Policy Act” when it failed to prepare an Environmental Impact Statement (EIS) or an Environmental Assessment (EA). This Final EA is intended to remedy that insufficiency.

Dated: February 4, 2014.
D.B. Abel,
Rear Admiral, U.S. Coast Guard, Commander, First Coast Guard District.

[FR Doc. 2014-04176 Filed 2-25-14; 8:45 am]

BILLING CODE 9110-04-P